DEPARTMENT OF THE INTERIOR

National Park Service

[NPS-WASO-NRNHL-DTS#-40345; PPWOCRADI0, PCU00RP14.R50000]

National Register of Historic Places; Notification of Pending Nominations and Related Actions

AGENCY: National Park Service, Interior.

ACTION: Notice.

SUMMARY: The National Park Service is soliciting electronic comments on the significance of properties nominated before May 24, 2025, for listing or related actions in the National Register of Historic Places.

DATES: Comments should be submitted electronically by June 20, 2025.

ADDRESSES: Comments are encouraged to be submitted electronically to National_Register_Submissions@nps.gov with the subject line “Public Comment on <property or proposed district name, (County) State>.” If you have no access to email, you may send them via U.S. Postal Service and all other carriers to the National Register of Historic Places, National Park Service, 1849 C Street NW, MS 2013, Washington, DC 20240.

FOR FURTHER INFORMATION CONTACT: Sherry A. Frear, Chief, National Register of Historic Places/National Historic Landmarks Program, 1849 C Street NW, MS 2013, Washington, DC 20240, sherry_frear@nps.gov, 202-913-3763.

SUPPLEMENTARY INFORMATION: The properties listed in this notice are being considered for listing or related actions in the National Register of Historic Places. Nominations for their consideration were received by the National Park Service before May 24, 2025. Pursuant to Section 60.13 of 36 CFR part 60, comments are being accepted concerning the significance of the nominated properties under the National Register criteria for evaluation.

Before including your address, phone number, email address, or other personal identifying information in your comment, you should be aware that your entire comment—including your personal identifying information—may be made publicly available at any time. While you can ask us in your comment to withhold your personal identifying information from public review, we cannot guarantee that we will be able to do so.

Nominations submitted by State or Tribal Historic Preservation Officers

KEY: State, County, Property Name, Multiple Name(if applicable), Address/Boundary, City, Vicinity, Reference Number.

CALIFORNIA

Los Angeles County

Frankel, Morris S. and Nadine E., House, 2146 Westridge Road, Los Angeles, SG100011973

COLORADO

Prowers County

Granada Historic Commercial District, 20 N Main St.—24 N Main St.—26 N Main St., Granada, SG100011970

OHIO

Cuyahoga County

Fairmount Heights Historic District, (Historic Residential Suburbs in the United States, 1830-1960 MPS)

Fairmount Blvd., Idlewood, Shaker, Taylor, and E. Monmouth roads, Cleveland Heights, MP100011972

A request to move has been received for the following resource(s):

MINNESOTA

Lake County

EDNA G (tugboat), hillside slope of Van Hoven Park, Two Harbors vicinity, MV75002144

Additional documentation has been received for the following resource(s):

CALIFORNIA

Nevada County

North Star House (Additional Documentation), 12075 Old Auburn Rd., Grass Valley vicinity, AD10001191

MASSACHUSETTS

Worcester County

Hassanamisco Reservation (Additional Documentation), 80 Brigham Hill Rd., Grafton, AD11000615

WEST VIRGINIA

Hancock County

Murray, James F., House (Additional Documentation), 530 Louisiana Ave., Chester, AD90001066

(Authority: Section 60.13 of 36 CFR part 60)

Sherry A. Frear,
Chief, National Register of Historic Places/National Historic Landmarks Program.

[FR Doc. 2025-10209 Filed 6-4-25; 8:45 am]

BILLING CODE 4312-52-P